DEPARTMENT OF HOMELAND SECURITY

Coast Guard

33 CFR Part 165

[USCG-2003-15404]

RIN 1625-ZA00

Navigation and Navigable Waters—Technical, Organizational, and Conforming Amendments

Correction

In rule document 03-15742 beginning on page 37738 in the issue of Wednesday, June 25, 2003, make the following correction:

§165.151 [Corrected]

On page 37741, in §165.151, in the third column, in amendatory instruction j., in the eighth line “072°05″23″” should read “072°05′23″”.

[FR Doc. C3-15742 Filed 7-2-03; 8:45 am]

BILLING CODE 1505-01-D